DEPARTMENT OF LABOR

Employment and Training Administration

[TA-W-73,934]

Pass & Seymour/Legrand a Subsidiary of Legrand North America; Including On-Site Leased Workers From Select Staffing, also Known as Real Time Staffing Services, and Aerotek; Concord, NC; Amended Certification Regarding Eligibility To Apply for Worker Adjustment Assistance

In accordance with Section 223 of the Trade Act of 1974, as amended (“Act”), 19 U.S.C. 2273, the Department of Labor issued a Certification of Eligibility to Apply for Worker Adjustment Assistance on May 27, 2010, applicable to workers of Pass & Seymour/Legrand, a subsidiary of Legrand North America, including on-site leased workers from Select Staffing and Aerotek, Concord, North Carolina. The workers manufacture electrical wiring devices. The notice was published in the Federal Register on June 16, 2010 (75 FR 34174).

At the request of a State agency, the Department reviewed the certification for workers of the subject firm. The company reports that Select Staffing, an on-site leased firm, is also known as Real Time Staffing Services. Select Staffing employees separated from employment at the Concord, North Carolina location of the subject firm had their wages reported under a separate unemployment insurance (UI) tax account for Select Staffing, also known as Real Time Staffing Services.

Accordingly, the Department is amending this certification to properly reflect this mater.

The amended notice applicable to TA-W-73,934 is hereby issued as follows:

All workers of Pass & Seymour/Legrand, a subsidiary of Legrand North America, including on-site leased workers from Select Staffing, also known as Real Time Staffing Services, and Aerotek, Concord, North Carolina, who became totally or partially separated from employment on or after June 14, 2010, through May 27, 2012, and all workers in the group threatened with total or partial separation from employment on the date of certification through two years from the date of certification, are eligible to apply for adjustment assistance under Chapter 2 of Title II of the Trade Act of 1974, as amended.

Signed at Washington, DC, this 3rd day of March 2011.
Elliott S. Kushner,
Certifying Officer, Division of Trade Adjustment Assistance.

[FR Doc. 2011-5656 Filed 3-11-11; 8:45 am]

BILLING CODE 4510-FN-P